DEPARTMENT OF HOMELAND SECURITY

[Docket No. DHS-2008-0102]

National Protection and Programs Directorate; Designation of the Sector-Specific Agency for the Critical Manufacturing Sector and Resulting Changes in the National Infrastructure Protection Plan

AGENCY: National Protection and Programs Directorate, Office of Infrastructure Protection, DHS.

ACTION: Notice of Sector Specific Agency designation for Critical Manufacturing.

SUMMARY: This notice informs the public that the Secretary, Department of Homeland Security (DHS), has designated the DHS Office of Infrastructure Protection (IP) as the Sector-Specific Agency (SSA) for the Critical Manufacturing Sector under the National Infrastructure Protection Plan (NIPP). IP will now move forward with the organization and coordination processes identified in the NIPP for establishing a new critical infrastructure and key resources (CIKR) sector. These initial steps will include establishing Government and Sector Coordinating Councils, which will begin the process of full integration into the CIKR Sector Partnership, implementation of the NIPP Risk Management Framework and development of the Critical Manufacturing Sector Specific Plan.

This designation also includes language changes to the NIPP identifying the new sector, which will take affect immediately and remain in effect until the NIPP is rewritten and published in 2009. These changes will include adding the Critical Manufacturing sector and its SSA to those sections of the NIPP where sectors and their SSAs are listed, referenced, or described, and amending the last sentence of the definition of “Sector” in the Glossary to read, “The NIPP addresses the 17 CIKR sectors enumerated in HSPD-7 and any additional sectors created by the Secretary of Homeland Security pursuant to HSPD-7.”

FOR FURTHER INFORMATION CONTACT: Larry L. May, Deputy Director, NIPP Program Office, Partnership and Outreach Division, Office of Infrastructure Protection, National Protection and Programs Directorate, Department of Homeland Security, Washington, DC 20528, 703-235-3648 or NIPP@dhs.gov.

Dated: September 17, 2008.
R. James Caverly,
Director, Partnership and Outreach Division, Office of Infrastructure Protection, Department of Homeland Security.

[FR Doc. E8-22609 Filed 9-25-08; 8:45 am]

BILLING CODE 4410-10-P